DEPARTMENT OF ENERGY

Annual Report of Closed Advisory Committee Meetings; Availability

In accordance with section 10(d) of the Federal Advisory Committee Act (FACA), Public Law 92-463, and section 102-3.175(c) of the General Services Administration's (GSA) Final Rule on Federal Advisory Committee Management, of July 19, 2001, the Department of Energy's 2001 Annual Report of Closed Advisory Committee meetings has been issued. The report covers three closed meetings of the National Nuclear Security Administration Advisory Committee held June 26-27, 2001, in Washington, DC, August 15, 2001, in Albuquerque, NM, and October 19-20, 2001, in McLean Virginia.

The report is available for public review and copying at the Department of Energy's Freedom of Information Public Reading Room, 1E-190, Forrestal Building, 1000 Independence Avenue, SW., Washington, DC 20585, between 9 a.m. and 4 p.m.; Monday through Friday, except Federal holidays. For further information contact me at the U.S. Department of Energy, 1000 Independence Avenue, SW., Washington, DC, 20585.

Issued in Washington, DC, on June 18, 2002.
Rachel Samuel,
Deputy Advisory Committee, Management Officer.

[FR Doc. 02-15856 Filed 6-21-02; 8:45 am]

BILLING CODE 6450-01-P